DEPARTMENT OF AGRICULTURE

Forest Service

Bridger-Teton National Forest; Wyoming; Long Term Special Use Authorization for Wyoming Game and Fish Commission To Use National Forest System Land for Their Winter Elk Management Programs

AGENCY: Forest Service, USDA.

ACTION: Notice of intent to supplement an environmental impact statement.

SUMMARY: The Bridger-Teton National Forest received a request from the Wyoming Game and Fish Commission (WGFC) to continue to use facilities at Alkali Creek Feedground to conduct their winter elk feeding and related management programs. An environmental impact statement (EIS) studying this request was prepared in 2008; however a decision was not made on this feedground. The agency intends to supplement the EIS with information concerning changed circumstances. The proposed action is to issue the WGFC a Special Use Authorization (SUA) for the requested uses of Alkali Creek Feedground for up to twenty years.

DATES: Comments concerning the scope of the analysis must be received by May 23, 2012. Public comments will also be solicited upon release of the draft supplement to the EIS, expected in July 2012. The final supplement and a Record of Decision are expected in November 2012.

ADDRESSES: Send written comments to Forest Supervisor Jacqueline Buchanan, Bridger-Teton National Forest, P.O. Box 1888, Jackson, WY 83001. Comments may also be sent via email to comments-intermtn-bridger-teton@fs.fed.us.

FOR FURTHER INFORMATION CONTACT: Pam Bode, Resources Staff Officer, at pbode@fs.fed.us, 307-739-5513, or at Bridger-Teton National Forest, P.O. Box 1888, Jackson, WY 83001. Individuals who use telecommunication devices for the deaf (TDD) may call the Federal Information Relay Service (FIRS) at 1-800-877-8339 between 8 a.m. and 8 p.m., Eastern Time, Monday through Friday.

SUPPLEMENTARY INFORMATION: On July 15, 2008, Carole `Kniffy' Hamilton, Forest Supervisor of the Bridger-Teton National Forest issued an EIS and signed a Record of Decision (ROD) concerning a Long Term Special Use Authorization for WGFC to use National Forest System Land for their Winter Elk Management Activities. The EIS included analysis of Alkali Creek and five other existing feedgrounds. In the ROD, Forest Supervisor Hamilton approved use at the five other feedgrounds and postponed the decision concerning Alkali Creek Feedground. This decision was postponed because more information was needed concerning the location of the Gros Ventre Wilderness boundary and vegetation effects adjacent to the feedground inside the Wilderness.

Purpose and Need for Action

The purpose and need for action is to respond to the WGFC request for a long term Special Use Permit authorizing intermittent occupancy and use of Alkali Creek Feedground for activities associated with the WGFC winter elk management program.

Proposed Action

The proposed action is to authorize the continued use of National Forest System (NFS) lands at Alkali Creek Feedground by the WGFC for corrals, sheds, one hay stack-yard containing two haysheds, a water facility and feeding grounds associated with their ongoing winter elk management program.

Possible Alternatives

Three alternatives were identified and studied in the 2008 FEIS: (1) The no action alternative—no special use authorization would be issued, (2) the proposed action—issuance of authorization to the WGFC, and (3) authorization of the proposed use with modifications.

Lead and Cooperating Agencies

The Forest Service is the Lead Agency. WGFC is a Cooperating Agency.

Responsible Official

The responsible Forest officer for this proposed action is Forest Supervisor Jacqueline Buchanan, Bridger-Teton National Forest, P.O. Box 1888, Jackson, WY 83001.

Nature of Decision To Be Made

The decision to be made is whether or not to authorize WGFC use of NFS lands at Alkali Creek Feedground for corrals, sheds, one hay stack-yard containing two haysheds, a water facility and feeding grounds associated with their ongoing elk feeding and management programs.

Preliminary Issues

After review of the 2008 EIS by an interdisciplinary team of Forest Service specialists, Forest Supervisor Buchanan determined that information concerning changed circumstances should be documented in a supplement and presented for consideration before a decision is made. The preliminary list of topics that may be considered for this supplement includes: Changes in species listed as Threatened, Endangered, or Sensitive, designation of Wild and Scenic Rivers, impacts to the Gros Ventre Wilderness, compliance with the Pronghorn Forest Plan amendment, effects related to recent fire activity, current information concerning wildlife diseases, and effects of changes in WGFC regulations. The public is encouraged to assist the Agency by contributing opinions and information about these or other changed circumstances since issuance of the 2008 EIS.

Permits or Licenses Required

If the decision is to authorize WGFC to continue to occupy and use NFS lands, it will be done through issuance of a Special Use Authorization with a term of up to 20 years. (36 CFR part 251 subpart B.)

Scoping Process

This notice of intent initiates the scoping process, which guides the development of the Supplement to the EIS. Scoping letters will be sent to a mailing list of known interested parties and to parties who commented on the 2008 Draft EIS. Public meetings are not planned; however, interested parties are encouraged to contact Agency personnel if questions arise. The scoping process will assist the Agency in determining what changed information should be included in the supplement. Ongoing information related to this analysis will be posted on the Bridger-Teton National Forest Web site: http://www.fs.usda.gov/goto/btnf/projects.

It is important that reviewers provide their comments at such times and in such manner that they are useful to the Agency's preparation of the supplement to the 2008 Environmental Impact Statement. Therefore, comments should be provided prior to the close of the comment period and should clearly articulate the reviewer's concerns and contentions. Comments received in response to this solicitation, including names and addresses of those who comment, will be part of the public record for this proposed action. Comments submitted anonymously will also be accepted and considered.

Dated: April 13, 2012.
Jose V. Castro,
Acting Forest Supervisor.

[FR Doc. 2012-9725 Filed 4-20-12; 8:45 am]

BILLING CODE 3410-11-P